FEDERAL COMMUNICATIONS COMMISSION

[GN Docket No. 17-208; FR ID 52202]

Meeting of the Communications Equity and Diversity Council

AGENCY: Federal Communications Commission.

ACTION: Notice.

SUMMARY: In accordance with the Federal Advisory Committee Act, this notice announces the first meeting of the Federal Communications Commission's (Commission) re-chartered Communications Equity and Diversity Council (CEDC). The charter for the CEDC has been renewed for a two-year period beginning June 29, 2021.

DATES: Wednesday, November 3, from 10:00 a.m. to 1:30 p.m.

ADDRESSES: The CEDC meeting will be available to the public for viewing via the internet at http://www.fcc.gov/live.

FOR FURTHER INFORMATION CONTACT: Jamila Bess Johnson, Designated Federal Officer (DFO) of the CEDC, (202) 418-2608, Jamila-Bess.Johnson@fcc.gov; Rashann Duvall, Co-Deputy DFO of the CEDC, (202) 418-1438, Rashann.Duvall@fcc.gov; or, Keyla Hernandez-Ulloa, Co-Deputy DFO of the CEDC, (202) 418-0965, Keyla.Hernandez-Ulloa@fcc.gov.

SUPPLEMENTARY INFORMATION: Proposed Agenda: The agenda for the meeting will include introducing members of the CEDC, including the Council Chair and Vice Chairs, and establishing working groups that will assist the CEDC in carrying out its work. This agenda may be modified at the discretion of the CEDC Chair and the DFO. As will be discussed at the meeting, the Council's mission is to make recommendations to the Commission on advancing equity in the provision of and access to digital communication services and products for all people of the United States, without discrimination on the basis of race, color, religion, national origin, sex, or disability. It shall provide recommendations to the Commission on how to empower people of color and others who have been historically underserved, including persons who live in rural areas, and persons otherwise adversely affected by persistent poverty or inequality, to access, leverage, and benefit from the wide range of opportunities made possible by technology, communication services and next-generation networks.

The CEDC meeting is accessible to the public on the internet via live feed from the FCC's web page at www.fcc.gov/live. Members of the public may submit any questions during the meeting to livequestions@fcc.gov. Oral statements at the meeting by parties or entities not represented on the CEDC will be permitted to the extent time permits and at the discretion of the CEDC Chair and the DFO.

Members of the public may submit comments to the CEDC using the FCC's Electronic Comment Filing System, ECFS, at www.fcc.gov/ecfs. Comments to the CEDC should be filed in GN Docket No. 17-208.

Open captioning will be provided for this event. Other reasonable accommodations for persons with disabilities are available upon request. Requests for such accommodations should be submitted via email to fcc504@fcc.gov or by calling the Consumer and Governmental Affairs Bureau at (202) 418-0530 (voice), (202) 418-0432 (TTY). Such requests should include a detailed description of the accommodation needed. In addition, please include a way for the Commission to contact the requester if more information is needed to fulfill the request. Please allow at least five days' notice; last minute requests will be accepted but may not be possible to accommodate.

Federal Communications Commission.
Thomas Horan,
Chief of Staff, Media Bureau.

[FR Doc. 2021-22023 Filed 10-7-21; 8:45 am]

BILLING CODE 6712-01-P